POSTAL SERVICE

39 CFR Part 111

Express Mail Next Day Delivery Postage Refund Amendment

AGENCY: Postal Service™.

ACTION: Proposed rule.

SUMMARY: The Postal Service is proposing to revise the Mailing Standards of the United States Postal Service, Domestic Mail Manual (DMM®) 114.2, 414.3, and 604.9, to state the conditions for Express Mail® Next Day Delivery postage refunds when shipments are mailed each year during the time period of December 22 through December 25.

DATES: We must receive your comments on or before June 1, 2010.

ADDRESSES: Mail or deliver written comments to the Manager, Mailing Standards, U.S. Postal Service, 475 L'Enfant Plaza, SW., Room 3436, Washington, DC 20260-3436. You may inspect and photocopy all written comments at USPS® Headquarters Library, 475 L'Enfant Plaza, SW., 11th Floor N, Washington, DC, between 9 a.m. and 4 p.m., Monday through Friday. E-mail comments concerning the proposed rule, containing the name and address of the commenter, may be sent to: MailingStandards@usps.gov, with a subject line of “Express Mail Refunds.” Faxed comments are not accepted.

FOR FURTHER INFORMATION CONTACT: Karen Key (202) 268-7492 or Carol A. Lunkins (202) 268-7262.

SUPPLEMENTARY INFORMATION: During the time period of December 22 through December 25, air transportation is subject to delay or cancellation.

Express Mail Next Day Delivery

Postage refunds will not be available for items mailed from December 22 through December 25 for Express Mail Next Day Delivery when those items are made available for pickup at the destination office, attempted for delivery, or delivered within two business days. This proposed revision is consistent with industry standards.

However, Express Mail Next Day Delivery postage refunds will be authorized when items are not available for customer pickup at the destination office, or delivery to the addressee was not attempted within two business days. These refunds are subject to the standards for this service, unless the delay was caused by one of the situations in DMM 114.2.1, Postage Not Refunded, or DMM 414.3.0, Postage Refunds. Next Day Delivery may not be available at all times of deposit or between all Post Office™ facilities.

Express Mail Second Day Delivery

During the time period of December 22 through December 25, postage refunds for Express Mail Second Day Delivery shipments will be available for items not available for customer pickup at the destination office, or for which delivery to the addressee was not attempted on the second business day. These refunds are subject to the standards for this service, unless the delay was caused by one of the situations in DMM 114.2.1, Postage Not Refunded, or DMM 414.3.0, Postage Refunds.

Although we are exempt from the notice and comment requirements of the Administrative Procedure Act [5 U.S.C of 553 (b), (c)] regarding proposed rulemaking by 39 U.S.C. 410(a), we invite public comments on the following proposed revisions to Mailing Standards of the United States Postal Service, Domestic Mail Manual (DMM), incorporated by reference in the Code of Federal Regulations. See 39 CFR Part 111.1.

List of Subjects in 39 CFR Part 111

Administrative practice and procedure, Postal Service.

Accordingly, 39 CFR Part 111 is proposed to be amended as follows:

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

100 Retail Letters, Cards, Flats, and Parcels

* * * * *

110 Express Mail

* * * * *

114 Postage Payment Methods

* * * * *

2.0 Postage Refunds

[Delete the heading of 2.1 in its entirety and incorporate the introductory paragraph and remaining text into 2.0 as follows:]

Postage refunds may not be available if delivery was attempted within the times required for the specific service, or for any of the following reasons:

[Revise items a, b, and c of former 2.1, and add new items d through h as follows:]

a. The item was properly detained for law enforcement purposes.

b. The item was delayed due to strike or work stoppage.

c. The item was delayed because of an incorrect ZIP Code or address; forwarding or return service was provided after the item was made available for claim.

d. The shipment is available for delivery, but the addressee made a written request (i.e. Hold Mail request), that the shipment be held for a specific day(s).

e. The delivery employee discovers that the shipment is undeliverable as addressed before leaving on the delivery route.

f. If authorized by USPS Headquarters, and the delay was caused by governmental action beyond the control of USPS or air carriers; war, insurrection, or civil disturbance; delay or cancellation of flights; projected or scheduled transportation delays; breakdown of a substantial portion of USPS transportation network resulting from events or factors outside the control of USPS; or acts of God.

g. The shipment contained live animals and was delivered or delivery was attempted within three days of the date of mailing.

h. The Express Mail Next Day shipment was mailed December 22 through December 25 and was delivered or delivery was attempted within two business days of the date of mailing.

* * * * *

400 Commercial Parcels

* * * * *

410 Express Mail

* * * * *

414 Postage Payment and Documentation

* * * * *

3.0 Postage Refunds

Postage refunds may not be available if delivery was attempted within the times required for the specific service, or for any of the following reasons:

[Revise items a, b, c of 3.0, and add new items “d through h” as follows:]

a. The item was properly detained for law enforcement purposes.

b. The item was delayed due to strike or work stoppage.

c. The item was delayed because of an incorrect ZIP Code or address; forwarding or return service was provided after the item was made available for claim.

d. The shipment is available for delivery, but the addressee made a written request (i.e. Hold Mail request), that the shipment be held for a specific day(s).

e. The delivery employee discovers that the shipment is undeliverable as addressed before leaving on the delivery route.

f. If authorized by USPS Headquarters, and the delay was caused by governmental action beyond the control of USPS or air carriers; war, insurrection, or civil disturbance; delay or cancellation of flights; projected or scheduled transportation delays; breakdown of a substantial portion of USPS transportation network resulting from events or factors outside the control of USPS; or acts of God.

g. The shipment contained live animals and was delivered or delivery was attempted within three days of the date of mailing.

h. The Express Mail Next Day shipment was mailed December 22 through December 25 and was delivered or delivery was attempted within two business days of the date of mailing.

* * * * *

600 Basic Standards for All Mailing Services

* * * * *

604 Postage Payment Methods

* * * * *

9.0 Refunds and Exchanges

* * * * *

9.5 Express Mail Postage Refund

* * * * *

9.5.2 Conditions for Refund

[Revise the introductory paragraph of 9.5.2 as follows:]

A refund request must be made within 90 days after the date of mailing. Except as provided in 114.2.1 and 414.3.1, a mailer may file for a postage refund only under one of the following circumstances:

* * * * *

9.5.3 Refunds Not Given

[Revise 9.5.3 as follows:]

A postage refund will not be given if the guaranteed service was not provided due to any of the circumstances in 114.2.1 and 414.3.1.

* * * * *

We will publish an appropriate amendment to 39 CFR 111 if our proposal is adopted.

Stanley F. Mires,
Chief Counsel, Legislative.

[FR Doc. 2010-10028 Filed 4-29-10; 8:45 am]

BILLING CODE 7710-12-P